DEPARTMENT OF THE INTERIOR

Fish and Wildlife Service

[FWS-R6-R-2015-N128; FXRS1265066CCP0-156-FF06R06000]

Rocky Mountain Arsenal National Wildlife Refuge, Adams County, CO; Environmental Impact Statement

AGENCY: Fish and Wildlife Service, Interior.

ACTION: Notice of availability; final environmental impact statement.

SUMMARY: We, the U.S. Fish and Wildlife Service, announce the availability of a final environmental impact statement (EIS) for the comprehensive conservation plan (CCP) for the Rocky Mountain Arsenal National Wildlife Refuge (refuge) in Adams County, Colorado. In the final environmental impact Statement we describe alternatives, including our preferred alternative, to manage the refuge for the 15 years following approval of the final CCP.

ADDRESSES: You may request copies or more information by one of the following methods. You may request hard copies or a CD-ROM of the documents.

Email: rockymountainarsenal@fws.gov. Include “Rocky Mountain Arsenal National Wildlife Refuge final EIS” in the subject line of the message.

U.S. Mail: Bernardo Garza, Planning Team Leader, Branch of Refuge Planning, P.O. Box 25486, Denver Federal Center, Denver, CO 80225-0486.

Fax: Attn: Bernardo Garza, Planning Team Leader, 303-236-4792.

To view comments on the final CCP-EIS from the Environmental Protection Agency (EPA), or for information on EPA's role in the EIS process, see EPA's Role in the EIS Process under SUPPLEMENTARY INFORMATION.

FOR FURTHER INFORMATION CONTACT: Bernardo Garza, Planning Team Leader, 303-236-4377 (phone) or bernardo_garza@fws.gov (email).

SUPPLEMENTARY INFORMATION:

Introduction

With this notice, we announce the availability of the final EIS for the refuge. We started this process through a notice in the Federal Register (78 FR 48183; August 7, 2013). Following a lengthy scoping and alternatives development period, we published a second notice in the Federal Register (80 FR 26084; May 6, 2015) announcing the availability of the draft CCP and draft EIS and our intention to hold public meetings, and requested comments. In addition, EPA published a notice announcing the draft CCP and EIS (80 FR 27950; May 15, 2015), as required under section 309 of the Clean Air Act (42 U.S.C. 7401 et seq.). We now announce the final EIS. Under the Clean Air Act, EPA also will announce the final EIS via the Federal Register. This notice complies with our CCP policy to advise other Federal and State agencies, Tribes, and the public of the availability of the final EIS for this refuge.

EPA's Role in the EIS Process

The EPA is charged under section 309 of the Clean Air Act to review all Federal agencies' EISs and to comment on the adequacy and the acceptability of the environmental impacts of proposed actions in the EISs.

EPA also serves as the repository (EIS database) for EISs prepared by Federal agencies and provides notice of their availability in the Federal Register. The EIS database provides information about EISs prepared by Federal agencies, as well as EPA's comments concerning the EISs. All EISs are filed with EPA, which publishes a notice of availability on Fridays in the Federal Register.

The notice of availability is the start of the 45-day public comment period for draft EISs, and the start of the 30-day “wait period” for final EISs, during which agencies are generally required to wait 30 days before making a decision on a proposed action. For more information, see http://www.epa.gov/compliance/nepa/eisdata.html. You may search for EPA comments on EISs, along with EISs themselves, at https://cdxnodengn.epa.gov/cdx-enepa-public/action/eis/search.

About the Refuge

In 1992 Congress passed the act that established the refuge to (1) conserve and enhance populations of fish, wildlife, and plants within the refuge, including populations of waterfowl, raptors, passerines, and marsh and water birds; (2) conserve species listed as threatened or endangered under the Endangered Species Act and species that are candidates for such listing; (3) provide maximum fish and wildlife-oriented public uses at levels compatible with the conservation and enhancement of wildlife and wildlife habitat; (4) provide opportunities for compatible scientific research; (5) provide opportunities for compatible environmental and land use education; (6) conserve and enhance the land and water of the refuge in a manner that will conserve and enhance the natural diversity of fish, wildlife, plants, and their habitats; (7) protect and enhance the quality of aquatic habitat within the refuge; and (8) fulfill international treaty obligations of the United States with respect to fish and wildlife and their habitats. The refuge is surrounded by the cities of Commerce City and Denver, along the Colorado Front Range. It encompasses nearly 16,000 acres and is home to more than 468 plant species and 350 wildlife species, including bison, deer, a wide variety of resident and migratory birds and raptors, amphibians, reptiles, fishes, and insects. The refuge's habitats include short and mixed grass prairie, interspersed with native shrubs, riparian corridors, lacustrine habitats on the refuge reservoirs, and woodlands planted by settlers around historic homesteads.

Background

The CCP Process

The National Wildlife Refuge System Administration Act of 1966, as amended (16 U.S.C. 668dd-668ee) (Administration Act) by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including, where appropriate, opportunities for hunting, fishing, wildlife observation and photography, and environmental education and interpretation. We will review and update the CCP at least every 15 years as necessary in accordance with the Administration Act.

Public Outreach

We started the public outreach process in June 2013. At that time and throughout the process, we requested public comments and considered them in numerous ways. Public outreach has included holding eight public meetings, mailing planning updates, maintaining a project Web site, and publishing press releases. We have considered and evaluated all the comments we have received throughout this process.

CCP Alternatives We Considered

During the public scoping process with which we started work on the draft CCP and draft EIS, we, our Federal and State partners, and the public identified several issues. Our final EIS addresses both the scoping comments and the comments we received on the draft CCP and draft EIS. A full description of each alternative is in the final EIS. Alternative C, Urban Refuge, was selected as the preferred alternative. To address these issues, we developed and evaluated the following alternatives, summarized below.

Alternative A: No Action

Alternative A is the no-action alternative, which represents the current management of the refuge. This alternative provides the baseline against which to compare the other alternatives. Under this alternative, management activity conducted by the Service would remain the same. The Service would not develop any new management, restoration, or education programs at the refuge. Current habitat and wildlife practices would not be expanded or changed. Funding and staff levels would remain the same, with little change in overall trends. Programs would follow the same direction, emphasis, and intensity as they do now. We would continue implementing the habitat restoration and management objectives set in the refuge's habitat management plan and other approved plans to provide for a wide variety of resident and migratory species.

Alternative B: Traditional Refuge

This alternative focuses on providing traditional refuge visitor uses and conveying the importance of conservation, wildlife protection, and the purposes of the Refuge System. Access to the refuge would remain more limited than in alternatives C and D. Wildlife-dependent recreation and community outreach would be minimally expanded. We would continue to manage the refuge's habitat and wildlife as in Alternative A, and would reintroduce to the refuge black-footed ferrets, and self-sustaining populations of greater prairie-chicken and sharp-tailed grouse. We would maintain the same levels of access and transportation as under Alternative A, but would enhance the main refuge entrance, improve visitor services facilities, and seek to improve trail accessibility.

Alternative C: Urban Refuge (Preferred Alternative)

The emphasis of this alternative is to increase the visibility of the refuge within the Denver metropolitan area and to welcome many more nontraditional visitors to the refuge. Through an expanded visitor services program, an abundance of instructional programming, and widespread outreach, we would endeavor to connect more people with nature and wildlife. In this alternative, the refuge would be made more accessible to outlying communities with the opening of additional access points and the development of enhanced transportation system. We would work with nontraditional users' trusted avenues of communication to increase outreach success. We would expand our conservation education in surrounding communities and schools, develop youth-specific outreach, and employ social marketing to broaden our agency's reach. We would manage the refuge's habitat and wildlife as in Alternative B, but the reintroduction of greater prairie-chicken and sharp-tailed grouse would be attempted regardless of whether these species' populations are likely to become self-sustaining.

Alternative D: Gateway Refuge

The emphasis of this alternative is to work with partners to increase the visibility of the refuge, the Refuge System, and other public lands in the area. There will be less visitor services programming at the refuge and efforts to engage with the public will be extended to off-site locations. We would work with Denver International Airport to improve physical connections between the refuge and the airport. The trail system within the refuge would be more extensive than under Alternative C. Working with our partners, we would manage access to the perimeter trail and promote trail linkages to the Rocky Mountain Greenway Trail and other regional trails. We would manage the refuge's habitat and wildlife as in Alternative B and we would work with neighboring landowners and state agencies to extend the range of native species.

Comments

We solicited comments on the draft CCP and draft EIS from May 6, 2015, through July 6, 2015. During the comment period, we thoroughly evaluated and considered all the comments we received verbally or via letters, email, and electronic forms from the public. Our responses to comments are included in the final EIS.

Changes to the Final EIS

We made the following changes in the final EIS from the draft CCP and draft EIS:

• Several comments pointed out the need to increase the number of law enforcement officers in the refuge to better cope with the increased visitation and new access to the refuge. Thus the Final EIS reflects our desire to seek more than one full-time law enforcement officer for the refuge under Alternatives C and D.

• As necessary, we updated maps, corrected errors, and provided additional clarification throughout the final EIS.

Public Availability of Documents

In addition to any one method in ADDRESSES, you can view or obtain documents at the following locations:

• Our Web site: http://www.fws.gov/mountain-prairie/planning/ccp/co/rkm/rkm.html.

• Public libraries:

Library | Address | Phone number
Aurora Central Public Library | 14949 E Alameda Parkway, Aurora, CO 80012 | (303) 739-6600.
Commerce City Public Library | 7185 Monaco Street, Commerce City, CO 80022 | (303) 287-0063.
Denver Central Library | 10 W Fourteenth Avenue, Denver, CO 80204 | (720) 865-1111.
Montbello Public Library | 12955 Albrook Drive, Denver, CO 80239 | (720) 865-0200.
Rangeview Library District | 327 E Bridge Street, Brighton, CO 80601 | (303) 405-3230.

Next Steps

We will document the final decision in a record of decision, which will be published in the Federal Register after a 30-day “wait period” that begins when EPA announces this final EIS. For more information, see EPA's Role in the EIS Process.

Dated: August 3, 2015.
Matt Hogan,
Acting Regional Director, Mountain-Prairie Region, U.S. Fish and Wildlife Service.

[FR Doc. 2015-21234 Filed 8-26-15; 8:45 am]

BILLING CODE 4310-55-P